DEPARTMENT OF HOUSING AND URBAN DEVELOPMENT

[Docket No. FR-5828-N-24]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AIR FORCE: Mr. Robert E. Moriarty, P.E., AFCEC/CI, 2261 Hughes Avenue, Ste. 155, JBSA Lackland TX 78236-9853; COE: Mr. Scott Whiteford, Army Corps of Engineers, Real Estate, CEMP-CR, 441 G Street NW., Washington, DC 20314; (202) 761-5542 (These are not toll-free numbers).

Dated: June 4, 2015.
Brian P. Fitzmaurice,
Director, Division of Community Assistance, Office of Special Needs Assistance Programs.

TITLE V, FEDERAL SURPLUS PROPERTY PROGRAM FEDERAL REGISTER REPORT FOR 06/12/2015

Suitable/Available Properties

Building

Nevada

Facility 2

4455 Grissom

Nellis AFB NV 89156

Landholding Agency: Air Force

Property Number: 18201520008

Status: Unutilized

Comments: 33+ yrs. old; 10,044 sq. ft.; office; asbestos; escort or base pass required for entry; contact AF for more information.

FAM HSG RELO 600-603

Gregg Circle on Parcel

008-261-19

Tonopah NV 89049

Landholding Agency: Air Force

Property Number: 18201520027

Status: Unutilized

Comments: off-site removal only; no future agency need; 4 mobile homes; residential; 1,344 sq. ft. each; major repairs needed; contamination; contact AF for more information.

New Jersey

3 Buildings

Joint Base McGuire-Dix Lakehurst

Joint Base MDL NJ 08640

Landholding Agency: Air Force

Property Number: 18201520015

Status: Unutilized

Directions: Building #1506(1,994 sq. ft.) 3606(538 sq. ft.) #1506 (1,994 sq. ft.)

Comments: off-site removal; 58-60+ yrs. old; 2+mos. vacant; communications transmitter; water support bldg.; poor conditions; contact AF for more information.

Tennessee

Memphis USARC, AMSA #105 (G)

(TN012/TN115)

2562 Avery Ave.

Memphis TN 38112

Landholding Agency: COE

Property Number: 31201520007

Status: Excess

Directions: Admin. Bldg. (14,000 sq. ft.); POL Storage (600 sq. ft.); AMSA Shop (7, 280 sq. ft.)

Comments: off-site removal only; removal extremely difficult due to size/type; fair conditions; contact COE for more information.

Virginia

F.1380

1380 Washington Blvd.

JBLE (Ft. Eustis) VA 23604

Landholding Agency: Air Force

Property Number: 18201520022

Status: Unutilized

Comments: 45+ yrs. old; 6,231 sq. ft.; gas station; 28+mos. vacant; must go through visitor's gate; beyond economic repair; contaminants; contact AF for more information/accessibility requirements.

Land

Arkansas

23.7 Acres

Harris Road/Little Rock AFB

Little Rock AR 72099

Landholding Agency: Air Force

Property Number: 18201520021

Status: Unutilized

Comments: 23.7 Acres; contact AF for more information.

South Carolina

53 Acre Parcel W Side of N Rhe

null

JB Charleston SC 29445

Landholding Agency: Air Force

Property Number: 18201520020

Status: Unutilized

Comments: 53 acres; contact AF for more information.

Unsuitable Properties

Building

Arkansas

2 Buildings

Little Rock AFB

Little Rock AFB AR 72099

Landholding Agency: Air Force

Property Number: 18201520004

Status: Underutilized

Directions: Building #330 NKAK 15-1010 & B-552 NKAK 96-3001P

Comments: public access denied and no alternative method to gain access without compromising National Security.

Reasons: Secured Area

4 Buildings

Little Rock AFB

Little Rock AFB AR 72099

Landholding Agency: Air Force

Property Number: 18201520005

Status: Unutilized

Directions: Building #959 NKAK16-1006, #756 NKAK101016, #1569 NKAK161005, #159 NKAK151014

Comments: public access denied and no alternative method to gain access without compromising National Security.

Reasons: Secured Area

California

7 Buildings

Edwards AFB

Edwards AFB CA 93523

Landholding Agency: Air Force

Property Number: 18201520010

Status: Unutilized

Directions: Bldg. #1866, 1400, 9592, 9590,1636,3920,4240

Comments: public access denied and no alternative method to gain access without compromising national security.

Reasons: secured Area

2 Buildings

Edwards AFB

Edwards AFB CA 93523

Landholding Agency: Air Force

Property Number: 18201520011

Status: Excess

Directions: Bldg. #1862, 1864

Comments: public access denied and no alternative method to gain access without compromising national security.

Reasons: Secured Area

4 Buildings

Los Angeles Air Force Base, Fort MacArthur

San Pedro CA 90009

Landholding Agency: Air Force

Property Number: 18201520013

Status: Underutilized

Directions: Building 156, 75, 74, 68

Comments: public access denied and no alternative method to gain access without compromising national security.

Reasons: Secured Area

2 Buildings

Edwards AFB

Edwards AFB CA 93523

Landholding Agency: Air Force

Property Number: 18201520025

Status: Unutilized

Directions: Bldg. 4239 & 8645

Comments: public access denied and no alternative method to gain access without compromising national security.

Reasons: Secured Area

Delaware

Building 263

263 Chad Street

Dover AFB DE 19902

Landholding Agency: Air Force

Property Number: 18201520023

Status: Underutilized

Comments: public access denied and no alternative method to gain access without compromising national security.

Reasons: Secured Area

Florida

9 Buildings

MacDill AFB

MacDill AFB FL 33621

Landholding Agency: Air Force

Property Number: 18201520012

Status: Unutilized

Directions: Building #826, 827, 1105, 1107, 694, 60, 13, 1051, 65

Comments: public access denied and no alternative method to gain access without compromising national security.

Reasons: Secured Area

Georgia

5 Buildings

Dobbins Air Reserve Base

Dobbins ARB GA

Landholding Agency: Air Force

Property Number: 18201520026

Status: Underutilized

Directions: 451(1,576 sq. ft.), 452(1,576 sq. ft.), 453 (1,576 sq. ft.), 454 (1,630 sq. ft.), 455 (1,910 sq. ft.)

Comments: public access denied and no alternative method to gain access without compromising national security.

Reasons: Secured Area

Massachusetts

2 Buildings

Hanscom AFB

Hanscom AFB MA 01731

Landholding Agency: Air Force

Property Number: 18201520018

Status: Excess

Directions: Building 1218 & B1217

Comments: public access denied and no alternative method to gain access without compromising national security.

Reasons: Secured Area

Mississippi

2 Buildings

Columbus AFB

Columbus AFB MS 39710

Landholding Agency: Air Force

Property Number: 18201520016

Status: Excess

Directions: Building 226 & 1004

Comments: public access denied and no alternative method to gain access without compromising national security.

Reasons: Secured Area

Building 435

57 Simler Blvd.

Columbus AFB MS 39710

Landholding Agency: Air Force

Property Number: 18201520017

Status: Unutilized

Comments: public access denied and no alternative method to gain access without compromising national security.

Reasons: Secured Area

Nevada

2 Buildings

Nellis AFB

Nellis AFB NV 89191

Landholding Agency: Air Force

Property Number: 18201520007

Status: Unutilized

Directions: Facility 10220 & Facility 892

Comments: public access denied and no alternative method to gain access without compromising national security.

Reasons: Secured Area

5 Buildings

Creech AFB

Creech AFB NV 89018

Landholding Agency: Air Force

Property Number: 18201520009

Status: Unutilized

Directions: Facility #6, 7, 8,86,2381

Comments: public access denied and no alternative method to gain access without compromising national security.

Reasons: Secured Area

New Mexico

2 Buildings

Kirtland AFB

Bernalillo NM 87117

Landholding Agency: Air Force

Property Number: 18201520014

Status: Underutilized

Directions: Building 1026, 2426

Comments: public access denied and no alternative method to gain access without compromising national security.

Reasons: Secured Area

New York

Building 811

2600 Ent Avenue

Niagara Falls IAP-ARS NY 14304

Landholding Agency: Air Force

Property Number: 18201520024

Status: Unutilized

Comments: public access denied and no alternative method to gain access without compromising national security.

Reasons: Secured Area

Land

South Carolina

0.24 Acre Parcel Yellow House

JB Charleston

Charleston SC 29492

Landholding Agency: Air Force

Property Number: 18201520019

Status: Unutilized

Comments: property located within floodway which has not been correct or contained.

Reasons: Floodway

[FR Doc. 2015-14190 Filed 6-11-15; 8:45 am]

BILLING CODE 4210-67-P